FEDERAL COMMUNICATIONS COMMISSION

Information Collection Being Submitted for Review and Approval to the Office of Management and Budget (OMB)

AGENCY: Federal Communications Commission (FCC).

ACTION: Notice; request for comments.

SUMMARY: As part of its continuing effort to reduce paperwork burden and as required by the Paperwork Reduction Act (PRA) of 1995 (44 U.S.C. 3502-3520), the FCC invites the general public and other Federal agencies to take this opportunity to comment on the following information collection. Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB Control Number. No person shall be subject to any penalty for failing to comply with a collection of information subject to the PRA that does not display a valid OMB Control Number.

DATES: Written PRA comments should be submitted on or before January 21, 2014. If you anticipate that you will be submitting PRA comments, but find it difficult to do so within the period of time allowed by this notice, you should advise the FCC contact listed below as soon as possible.

ADDRESSES: Submit your PRA comments to Nicholas A. Fraser, Office of Management and Budget (OMB), via fax at 202-395-5167, or via the Internet at Nicholas_A._Fraser@omb.eop.gov and to Leslie Smith, Office of Managing Director (OMD), Federal Communications Commission (FCC), via the Internet at Leslie.Smith@fcc.gov. To submit your PRA comments by email, send them to: PRA@fcc.gov.

FOR FURTHER INFORMATION CONTACT: Leslie Smith, OMD, FCC, at 202-418-0217, or via the Internet at: Leslie.Smith@fcc.gov.

SUPPLEMENTARY INFORMATION: OMB Control Number: 3060-0917.

Title: CORES Registration Form, FCC Form 160.

Form Number: FCC Form 160.

Type of Review: Extension of a currently approved collection.

Respondents: Businesses or other for-profit entities; Individuals or households; Not-for-profit institutions; and State, Local, or Tribal Governments.

Number of Respondent and Responses: 93,000 respondents; 93,000 responses.

Estimated Time per Response: 10 minutes (0.167 hours).

Frequency of Response: One time reporting requirement.

Obligation to Respond: Required to obtain or retain benefits. Statutory authority for this information collection is contained in the Debt Collection Act of 1996 (DCCA), Public Law 104-134, Chapter 10, Section 31001.

Total Annual Burden: 15,531 hours.

Total Annual Cost: None.

Privacy Impact Assessment: A Privacy Impact Assessment (PIA) covering the information system for this information collection, which is posted at: http://transition.fcc.gov/omd/privacyact/Privacy_Impact_Assessment.html.

Nature and Extent of Confidentiality: The FCC is not requesting that respondents submit confidential information to the Commission. If the FCC requests that respondents submit information which respondents believe is confidential, respondents may request confidential treatment of such information pursuant to Section 0.459 of the FCC's rules, 47 CFR Section 0.459. The FCC has a system of records, FCC/OMD-9, “Commission Registration System (CORES),” to cover the collection, purpose(s), storage, safeguards, and disposal of the personally identifiable information (PII) that individual respondents may submit on FCC Form 160, which is posted at: http://transition.fcc.gov/omd/privacyact/records-systems.html.

The FCC will also redact PII submitted on this form before it makes FCC Form 160 available for public inspection. FCC Form 160 includes a “privacy statement” to inform applicants (respondents) of the FCC's need to obtain the information and the protections that the FCC has in place to protect PII.

Needs and Uses: Respondents use FCC Form 160 to register in the FCC's Commission Registration System (CORES). When registering, the respondent receives a unique FCC Registration Number (FRN), which is required for anyone doing business with the Commission. Respondents may also register in CORES on-line at www.fcc.gov/frnreg. FCC Form 160 is used to collect information that pertains to the entity's name, address, contact representative, telephone number, email address(es), and fax number. The Commission uses this information to collect or report on any delinquent debt arising from the respondent's business dealings with the FCC, including both “feeable” and “nonfeeable” services; and to ensure that registrants (respondents) receive any refunds due. Use of the CORES System is also a means of ensuring that the Commission operates in compliance with the Debt Collection Improvement Act of 1996 (DCCA), Public Law 104-134, Chapter 10, Section 31001.

The FCC is currently sending confirmations of CORES registrations and updates by U.S. Postal Service. The FCC will transition to sending confirmations by email where we have email addresses for the CORES registrants. This is being done because: (1) emailing confirmations instead of sending hard copies will save the FCC considerable money, including labor, paper and postage; and (2) additionally, it is more efficient to transmit confirmations electronically on a real-time base.

On November 19, 2010, the FCC adopted a Notice of Proposed Rulemaking (NPRM), Amendment of Part 1 of the Commission's Rules Concerning Practice and Procedure, Amendment of CORES Registration System, MD Docket No. 10-234, FCC 10-192. The NPRM has proposed to eliminate some of the FCC's exceptions to the requirement that entities and individuals provide their Taxpayer Identification Number (“TIN”) at the time of registration; require FRN holders to provide their email address(es); give FRN holders the option to identify multiple points of contact; and require FRN holders to indicate their tax-exempt status and notify the Commission of pending bankruptcy proceedings. All remaining existing information collection requirements would stay as they are.

OMB Control Number: 3060-0918.

Title: CORES Update/Change Form, FCC Form 161.

Form Number: FCC Form 161.

Type of Review: Extension of a currently approved collection.

Respondents: Businesses or other for-profit entities; Individuals or households; Not-for-profit institutions; and State, Local, or Tribal Governments.

Number of Respondents and Responses: 80,000 respondents; 80,000 responses.

Estimated Time per Response: 10 minutes (0.167 hours).

Frequency of Response: On occasion reporting requirement.

Obligation to Respond: Required to obtain or retain benefits. Statutory authority for this information collection is contained in the Debt Collection Act of 1996 (DCCA), Public Law 104-134, Chapter 10, Section 31001.

Total Annual Burden: 13,360 hours.

Total Annual Costs: None.

Privacy Impact Assessment: A Privacy Impact Assessment (PIA) covering the information system for this information collection is posted at: http://transition.fcc.gov/omd/privacyact/Privacy_Impact_Assessment.html.

Nature and Extent of Confidentiality: The FCC is not requesting that respondents submit confidential information to the Commission. If the FCC requests that respondents submit information which respondents believe is confidential, respondents may request confidential treatment of such information pursuant to Section 0.459 of the FCC's rules, 47 CFR Section 0.459. The FCC has a system of records, FCC/OMD-9, “Commission Registration System (CORES),” to cover the collection, purpose(s), storage, safeguards, and disposal of the personally identifiable information (PII) that individual respondents may submit on FCC Form 161, which is posted at: http://transition.fcc.gov/omd/privacyact/records-systems.html.

The FCC will also redact PII submitted on this form before it makes FCC Form 161 available for public inspection. FCC Form 161 includes a “privacy statement” to inform applicants (respondents) of the FCC's need to obtain the information and the protections that the FCC has in place to protect PII.

Needs and Uses: After respondents have registered in the FCC's Commission Registration System (CORES) and have been issued a FCC Registration Number (FRN), they may use FCC Form 161 to update and/or change their contact information, including name, address, telephone number, email address(es), fax number, contact representative, contact representative's address, telephone number, email address, and/or fax number. Respondents may also update their registration information in CORES on-line at www.fcc.gov/frnreg. The Commission uses this information to collect or report on any delinquent debt arising from the respondent's business dealings with the FCC, including both “feeable” and “nonfeeable” services; and to ensure that registrants (respondents) receive any refunds due. Use of the CORES System is also a means of ensuring that the Commission operates in compliance with the Debt Collection Improvement Act of 1996 (DCIA).

The FCC is currently sending confirmations of CORES registrations and updates by U.S. Postal Service. The FCC will transition to sending confirmations by email where we have email addresses for the CORES registrants. This is being done because: (1) emailing confirmations instead of sending hard copies will save the FCC considerable money, including labor, paper and postage; and (2) additionally, it is more efficient to transmit confirmations electronically on a real-time base.

On November 19, 2010, the FCC adopted a Notice of Proposed Rulemaking (NPRM), Amendment of Part 1 of the Commission's Rules Concerning Practice and Procedure, Amendment of CORES Registration System, MD Docket No. 10-234, FCC 10-192. The NPRM has proposed to eliminate some of the FCC's exceptions to the requirement that entities and individuals provide their Taxpayer Identification Number (“TIN”) at the time of registration; require FRN holders to provide their email address(es); give FRN holders the option to identify multiple points of contact; and require FRN holders to indicate their tax-exempt status and notify the Commission of pending bankruptcy proceedings. All remaining existing information collection requirements would stay as they are.

Federal Communications Commission.
Gloria J. Miles,
Federal Register Liaison, Office of the Secretary, Office of Managing Director.

[FR Doc. 2013-30263 Filed 12-19-13; 8:45 am]

BILLING CODE 6712-01-P